DEPARTMENT OF COMMERCE

International Trade Administration

Aerospace Executive Service Trade Mission (AESTM) to Seoul, Korea

AGENCY: International Trade Administration, Department of Commerce.

ACTION: Notice.

SUMMARY:

Mission Description

The U.S. Department of Commerce, International Trade Administration (ITA), Aerospace & Defense Technologies Team and the U.S. Commercial Service in Seoul (CS Korea) are organizing an Aerospace Executive Service Trade Mission (AESTM) to Seoul in conjunction with the Seoul ADEX 2011 (International Aerospace & Defense Exhibition) (http://www.seoulairshow.com).

The AESTM, to be led by a senior official of the Department of Commerce, will include representatives from a variety of U.S. aerospace and defense industry manufacturers and service providers. These mission participants will be introduced to international agents, distributors and end-users whose capabilities are targeted to each U.S. participant's needs. Mission participants will also be briefed by key local industry players and Joint U.S. Military Affairs Group—Korea (JUSMAG-K) who can advise on local market conditions and opportunities.

Commercial Setting

The Republic of Korea (Korea) is an economic leader in East Asia. Korea is the 7th largest market for U.S. exports as well as the 9th largest market for U.S. aerospace exports with $3.0 billion of U.S. aerospace exports in 2010. Korea is a growing market for the aerospace and defense industry, with U.S. aerospace exports growing 51% from 2004 and 2010. With the world's sixth largest military, and continued spending for new weapon systems as part of its defense modernization program, Korea continues to attract the interest of U.S. defense suppliers. In addition to its traditional focus on air power, Seoul ADEX 2011 will also incorporate land forces technology.

Seoul ADEX is one of the world's premier aerospace and defense technology events. The 2009 ADEX show was the largest to date and featured 273 exhibitors from 27 countries, 72 VIPs from 41 countries, and approximately 20,000 trade visitors. Encompassing all civil and military sectors of the international aerospace and ground support industry, Seoul ADEX is the foremost platform for companies to showcase their products and services in the region. Attendees and visitors to the Seoul ADEX include foreign and Korean VIPs, government officials, senior company managers, and high-level executives involved in the aerospace and defense market in Korea and the rest of the region.

With a close working relationship between the U.S. and Korean governments and private aerospace and defense companies, the AESTM service at this major aerospace and defense show will assist American companies in making important contact with the industry's key players in this region.

The U.S.-Korea Trade Agreement (KORUS) would provide significant commercial opportunities to U.S. aerospace exporters, including duty-free treatment for all U.S. aerospace exports to Korea within three years of implementation of KORUS (Korean aerospace tariffs currently average 3.5 percent, ranging up to 8 percent).

Mission Goals

The goal of the AESTM at the Seoul ADEX 2011 is to facilitate an effective presence for small- and medium-sized companies while combining aspects of a trade mission, such as one on one pre-scheduled business-to-business meetings, trade show participation, and networking activities, in one package.

The AESTM Program enables U.S. aerospace companies to familiarize themselves with this important trade fair, to conduct market research and to explore export opportunities through pre-arranged meetings with potential partners. AESTM participants will be supported by knowledgeable Commercial Service specialists focused on furthering their company-specific objectives.

Mission Scenario

Participants will have individual company kiosk space within the U.S. Pavilion where they can display company literature and conduct meetings with visitors to the air show. Company information and literature will be forwarded by the companies to CS Korea in advance whereupon CS Korea will search for relevant partners and coordinate logistics with respect to arranging meetings for each participant at the show. Prior to the end of the AESTM program, CS Korea staff will undertake a debriefing session with mission participants as well as counsel and coordinate with them on appropriate follow-up procedures.

In summary, participation in the AESTM Program includes:

• Pre-show Outreach and Press Release by CS Korea;

• Pre-show breakfast briefing on October 17, 2011, by CS Korea and other inter agencies in American Embassy such as JUSMAG-K;

• Daily Transportation between AESTM hotel and ADEX 2011 and vice versa;

• Pre-scheduled meetings with potential partners, distributors, and/or end users and on-site meeting if requested;

• One show entry pass per company representative;

• Participation in U.S. Exhibitors Welcome Reception on October 17 by the show organizer;

• One invitation to the U.S. VIP reception per participant by the U.S. Ambassador to Korea;

• Access to Official U.S. Pavilion/Business Information Office amenities, including meeting area;

• Individual kiosk space within the U.S. Pavilion for display of company literature, poster and meetings;

• Copy of the official ADEX 2011 Air Show Exhibitor's Directory;

• Copy of AES Trade Mission Directory;

• On-site AESTM program coordinator.

Proposed Timetable

Mission Timetable: ITA Aerospace & Defense Technologies Team members arrive in Seoul prior to the show. The proposed program is below:

October 16 (Sunday) | AES Participants Arrive.
A.M., October 17 (Monday) | Program and pre-show briefing at hotel.
P.M., October 17 (Monday) | 1-on-1 meeting (2-3 meetings) at hotel.
Evening, October 17 (Monday) | Show Organizer's Welcome Reception at official hotel of the show organizer (6:30-8:30 p.m.).
A.M., October 18 (Tuesday) | Show Opens.
P.M., October 18 (Tuesday) | 1-on-1 meeting at Seoul ADEX 2011.
Evening, October 18 (Tuesday) | Welcome Reception (subject to date change) by the U.S. Ambassador.
A.M., October 19 (Wednesday) | 1-on-1 meeting at Seoul ADEX 2011.
P.M., October 19 (Wednesday) | Follow-Up meetings.
October 20 (Thursday) | On site meeting with exhibitors upon request.
October 21 (Friday) | On your own schedule.
October 22-23 (Saturday-Sunday) | Public Days.

Participation Requirements

All parties interested in participating in the Aerospace Executive Service Trade Mission must complete and submit an application for consideration by the Department of Commerce. All applicants will be evaluated on their ability to meet certain conditions and best satisfy the selection criteria as outlined below. A minimum of 8 and a maximum of 11 companies will be selected to participate in the mission from the applicant pool. U.S. companies already doing business in Korea as well as U.S. companies seeking to enter the market for the first time are encouraged to apply.

Fees and Expenses

After a company has been selected to participate in the mission, a payment to the Department of Commerce in the form of a participation fee is required. The participation fee will be $5,000 for a small or medium-sized enterprise (SME) ¹ and $5,500 for large firms. The fee for each additional firm representative (SME or large) is $300. Expenses for travel, lodging, meals, and incidentals will be the responsibility of each trade mission participant.

¹ An SME is defined as a firm with 500 or fewer employees or that otherwise qualifies as a small business under SBA regulations. See http://www.sba.gov/contractingopportunities/owners/basics/whatismallbusiness/index.html. Parent companies, affiliates, and subsidiaries will be considered when determining business size. The dual pricing reflects the Commercial Service's user fee schedule that became effective May 1, 2008. See http://www.export.gov/newsletter/march2008/initiatives.html.

Conditions for Participation

• An applicant must submit a completed and signed mission application and supplemental application materials, including adequate information on the company's products and/or services, primary market objectives, and goals for participation. If the U.S. Department of Commerce receives an incomplete application, the Department may reject the application, request additional information, or take the lack of information into account when evaluating the applications.

• Each applicant must also certify that the products and services it seeks to export through the mission are either produced in the United States, or, if not, marketed under the name of a U.S. firm and have at least 51 percent U.S. content of the value of the finished product or service.

Selection Criteria for Participation

• Suitability of the company's products or services to the Korean market.

• Consistency of the applicant's goals and objectives with the stated scope and design of the mission.

• Applicant's potential for business in Korea, including likelihood of exports resulting from the mission.

Referrals from political organizations and any documents containing references to partisan political activities (including political contributions) will be removed from an applicant's submission and not considered during the selection process.

Timeframe for Recruitment and Applications

Mission recruitment will be conducted in an open and public manner, including publication in the Federal Register (http://www.gpoaccess.gov/fr), posting on ITA's trade mission calendar— http://www.trade.gov/trade-missions—and other Internet Web sites, press releases to general and trade media, direct mail, broadcast fax, notices by industry trade associations and other multiplier groups, and publicity at industry meetings, symposia, conferences, and trade shows.

Recruitment for the mission will begin August 8, 2011, and conclude August 26, 2011. The U.S. Department of Commerce will review applications and make selection decisions on a rolling basis, and will inform all applicants of selection decisions as soon as possible. Applications received after the August 26 deadline will be considered only if space and scheduling constraints permit.

Contacts

Jason Sproule, Senior International Trade Specialist, Irvine U.S. Export Assistance Center, 2302 Martin Court, Irvine, California 92612, Tel: 949-660-7105, Fax: 949-660-1338, Jason.sproule@trade.gov.

Elnora Moye,
U.S. Department of Commerce, Commercial Service/GTP.

[FR Doc. 2011-21108 Filed 8-17-11; 8:45 am]

BILLING CODE 3510-FP-P